OFFICE OF GOVERNMENT ETHICS

5 CFR Part 2641

RIN 3209-AA14

Post-Employment Conflict of Interest Restrictions; Correction

AGENCY: Office of Government Ethics (OGE).

ACTION: Proposed rule; correction.

SUMMARY: In this document, OGE is correcting a few minor errors in certain sections of the proposed post-employment conflict of interest regulation, which was published by OGE in the Federal Register on Tuesday, February 18, 2003.

DATES: Comments on these corrections are invited and must be received on or before May 19, 2003.

FOR FURTHER INFORMATION CONTACT: Richard M. Thomas, Associate General Counsel, Office of Government Ethics, Suite 500, 1201 New York Avenue, NW., Washington, DC 20005-3917; Telephone: 202-208-8000; TDD: 202-208-8025; FAX: 202-208-8037.

SUPPLEMENTARY INFORMATION: In this document, OGE is correcting three minor errors in the proposed rule document, which OGE published on February 18, 2003 at 68 FR 7843-7892 (as separate part II), concerning the post-Government employment conflict of interest restrictions of 18 U.S.C. 207 applicable to former executive branch employees. The errors being corrected are as follows: a fifth example following paragraph (g) of proposed § 2641.204 was inadvertently omitted; a note following paragraph (g) of proposed § 2641.205 was mistakenly incorporated into the text of that section as proposed; and some unintended text was included in paragraph (e)(5)(iii)(E) of proposed § 2641.301.

Approved: March 24, 2003.
Amy L. Comstock,
Director, Office of Government Ethics.

For the reasons set forth in the preamble, the Office of Government Ethics, is correcting the February 18, 2003 publication of the proposed rule on Post-Employment Conflict of Interest Restrictions, which was the subject of FR Doc. 03-3043, as follows:

PART 2641—POST-EMPLOYMENT CONFLICT OF INTEREST RESTRICTIONS

§ 2641.204 [Corrected]

1. On page 7882, in the third column, the examples following paragraph (g) of § 2641.204 are corrected by adding an Example 5 to read as follows:

Example 5 to paragraph (g): A chemist serves in a senior employee position in the Agency for Clean Rivers. Subsequent to his termination from the position, the mission of the Agency for Clean Rivers is expanded and it is renamed the Agency for Clean Water. A number of employees from the Agency for Marine Life are transferred to the reorganized agency. If it is determined that the Agency for Clean Water is substantially the same entity from which the chemist terminated, the section 207(c) bar will apply with respect to the chemist's contacts with all of the employees of the Agency for Clean Water, including those employees who recently transferred from the Agency for Marine Life. He would not be barred from contacting an employee serving in one of the positions that had been transferred from the Agency for Clean Rivers to the Agency for Clean Land.

§ 2641.205 [Corrected]

2. On page 7883, in the second column, the text of paragraph (g) of § 2641.205 is corrected by removing the last sentence and by adding a note following paragraph (g) to read as follows:

Note to paragraph (g): A communication made to an official described in 5 U.S.C. 5312-5316 can include a communication to a subordinate of such official with the intent that the information be conveyed directly to the official and attributed to the former very senior employee.

§ 2641.301 [Corrected]

3. On page 7887, in the first column, the text of paragraph (e)(5)(iii)(E) of § 2641.301 is corrected by removing the parentheses and words “(or deputy or acting head)''.

[FR Doc. 03-7539 Filed 3-28-03; 8:45 am]

BILLING CODE 6345-02-P